DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Burlington Northern Santa Fe (BNSF) Railway Company

[Docket Number FRA-2005-21359]

Burlington Northern Santa Fe (BNSF) Railway Company seeks a waiver of compliance from certain provisions of Title 49 of the CFR, part 213, Track Safety Standards. Specifically, BNSF seeks relief from the requirements of Section 213.121-Rail Joints, which prescribe the requirements for rail joints, including standard joints, insulated joints (IJ), and compromise joints.

BNSF, in conjunction with Omega Industries of Vancouver, WA, is developing a new generation of IJ, and seeks a waiver in order to permit field testing of this new design. This new design differs from typical accepted IJ construction because it does not utilize a continuous angle bar. Instead, the design calls for the running rail on each side being attached to a large interlocking bearing and shaft that is cast into an H-shaped concrete tie that uniformly distributes loads to the ballast. The principal advantage of this design is that it provides for a large bearing surface that uses the entire rail base resting on conventional concrete tie pads to distribute vertical loading. The manufacturer and BNSF offer other advantages of such a design to include: Delrin plastic in place of a traditional fiberglass endpost, vertical movement is further restricted by a vertically positioned bolt system, no need for messy and toxic epoxy/glue substances, rails can easily be replaced without removing the joint, allowing correction of a rail failure without necessarily replacing the entire IJ.

BNSF Railway Company offers the following testing plan:

1. The initial IJ will be installed in a yard location (FRA Class 1 speed) on a non-signaled track segment. Any design, construction, or installation shortcomings (in this case, current leakage from one rail to the next rail) will not result in a signal failure. This phase one test will remain in track for six months prior to moving to the next test phase.

Monitoring—During this test phase, the IJ will be monitored for rail movement (all three directions) and current isolation. If the IJ restrains the rail movement and current does not pass from one rail to the next rail, the next test phase will be initiated. This first test IJ will be left in the yard track and will continue to be monitored after the initial six-month period. The IJ will remain in-track until it fails, or if it performs successfully in service for a minimum of one year, BNSF and Omega may option to move it to a signaled track segment in FRA Class 1 or 2 track.

2. A second IJ will be installed in a Class 1 speed main track at a location that has a signalrequirement. This test IJ will remain in track for a minimum of six months prior to moving to a third test phase.

Monitoring—During this test phase the IJ will be monitored for rail movement (all three directions) and current isolation. If the IJ restrains the rail movement and current does not pass from one rail to the next rail, then the IJ would be graduated to the next test phase. This second IJ will remain in track and continue to be monitored after the initial minimum six-month period.

3. A third IJ will be installed after successful completion of the first phase and second phase tests. The third phase test will be conducted at a signal location in Class 2 speed track. This test IJ will remain in track until the joint fails. If the third phase test joint exceeds what is deemed the average life of conventional insulated joints, currently approximately 250-350 MGT, BNSF and Omega will propose the installation of additional joints. When the test IJ are removed from track due to failure, they will be sent back to the manufacturer for examination to determine the cause of the failure.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2005-21359) and must be submitted to the Docket Clerk, DOT Docket Management Facility, Room PL-401 (Plaza Level), 400 7th Street, SW., Washington, D.C. 20590. Communications received within 30 days of the date of this notice will be considered by FRA before final action is taken. Comments received after that date will be considered as far as practicable. All written communications concerning these proceedings are available for examination during regular business hours (9 a.m.-5 p.m.) at the above facility.

All documents in the public docket are also available for inspection and copying on the Internet at the docket facility's Web site at http://dms.dot.gov.

Issued in Washington, DC on July 13, 2005.
Grady C. Cothen, Jr.,
Deputy Associate Administrator for Safety Standards and Program Development.

[FR Doc. 05-14342 Filed 7-20-05; 8:45 am]

BILLING CODE 4910-06-P